DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 govern the application, processing, and disposition of petitions for modification. This Federal Register Notice notifies the public that MSHA has investigated and issued a final decision on certain mine operator petitions to modify a safety standard.

ADDRESSES: Copies of the final decisions are posted on MSHA's Web site at https://www.msha.gov/regulations/rulemaking/petitions-modification. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2012-075-C.

FR Notice: 77 FR 30556 (May 23, 2012).

Petitioner: Mountain Coal Company, P.O. Box 591, 5174 Highway 133, Somerset, Colorado 81434.

Mine: West Elk Mine, MSHA I.D. No. 05-03672, located in Gunnison County, Colorado.

Regulation Affected: 30 CFR 75.500(d) (Permissible electric equipment).

• Docket Number: M-2014-011-C.

FR Notice: 79 FR 30174 (May 27, 2014).

Petitioner: Consol Pennsylvania Coal Company, LLC, Consol Energy, Inc., CNX Center, 1000 Consol Energy Drive, Canonsburg, Pennsylvania 15317-6506.

Mine: Enlow Fork Mine, MSHA I.D. No. 36-07416, located in Greene County, Pennsylvania.

Regulation Affected: 30 CFR 75.1700 (Oil and Gas wells).

• Docket Number: M-2014-012-C.

FR Notice: 79 FR 30176 (May 27, 2014).

Petitioner: Consol Pennsylvania Coal Company, LLC, Consol Energy, Inc., CNX Center, 1000 Consol Energy Drive, Canonsburg, Pennsylvania 15317-6506.

Mine: Bailey Mine, MSHA I.D. No. 36-07230, located in Greene County, Pennsylvania.

Regulation Affected: 30 CFR 75.1700 (Oil and gas wells).

• Docket Number: M-2014-013-C.

FR Notice: 79 FR 30178 (May 27, 2014).

Petitioner: Consol Pennsylvania Coal Company, LLC, Consol Energy, Inc., CNX Center, 1000 Consol Energy Drive, Canonsburg, Pennsylvania 15317-6506.

Mine: Harvey Mine (formerly BMX Mine), MSHA I.D. No. 36-10045, located in Greene County, Pennsylvania.

Regulation Affected: 30 CFR 75.1700 (Oil and gas wells).

• Docket Number: M-2016-016-C.

FR Notice: 81 FR 47423 (July 21, 2016).

Petitioner: Marshall County Coal Company, 1 Bridge Street, Monongah, West Virginia 26554.

Mine: Marshall County Mine, MSHA I.D. No. 46-01437, located in Marshall County, West Virginia.

Regulation Affected: 30 CFR 75.1700 (Oil and gas wells).

• Docket Number: M-2016-017-C.

FR Notice: 81 FR 47426 (July 21, 2016).

Petitioner: The Marion County Coal Company, 1 Bridge Street, Monongah, West Virginia 26554.

Mine: Marion County Mine, MSHA I.D. No. 46-01433, located in Marion County, West Virginia.

Regulation Affected: 30 CFR 75.1700 (Oil and gas wells).

• Docket Number: M-2016-018-C.

FR Notice: 81 FR 47428 (July 21, 2016).

Petitioner: The Monongalia County Coal Company, 1 Bridge Street, Monongah, West Virginia 26554.

Mine: Monongalia County Mine, MSHA I.D. No. 46-01968, located in Monongalia County, West Virginia.

Regulation Affected: 30 CFR 75.1700 (Oil and gas wells).

• Docket Number: M-2016-019-C.

FR Notice: 81 FR 47431 (July 21, 2016).

Petitioner: The Harrison County Coal Company, 1 Bridge Street, Monongah, West Virginia 26554.

Mine: Harrison County Mine, MSHA I.D. No. 46-01318, located in Marion County, West Virginia.

Regulation Affected: 30 CFR 75.1700 (Oil and gas wells).

• Docket Number: M-2016-020-C.

FR Notice: 81 FR 47434 (July 21, 2016).

Petitioner: The Ohio County Coal Company, 1 Bridge Street, Monongah, West Virginia 26554.

Mine: Ohio County Mine, MSHA I.D. No. 46-01436, located in Marshall County, West Virginia.

Regulation Affected: 30 CFR 75.1700 (Oil and gas wells).

• Docket Number: M-2016-021-C.

FR Notice: 81 FR 47420 (July 21, 2016).

Petitioner: The Marshall County Coal Company, 57 Goshorn Woods Road, Cameron, West Virginia 26033.

Mine: Marshall County Mine, MSHA I.D. No. 46-01437, located in Marshall County, West Virginia.

Regulation Affected: 30 CFR 77.1914(a) (Electrical equipment).

• Docket Number: M-2016-024-C.

FR Notice: 81 FR 55490 (August 19, 2016).

Petitioner: Signal Peak Energy, LLC, 100 Portal Drive, Roundup, Montana 59072.

Mine: Bull Mountains Mine #1, MSHA I.D. No. 24-01950, located in Musselshell County, Montana.

Regulation Affected: 30 CFR 75.312(c) (Main mine fan examinations and records).

• Docket Number: M-2016-025-C.

FR Notice: 81 FR 55491 (August 19, 2016).

Petitioner: Ohio County Coal Company, 1107 Golden Ridge Road, Dallas, West Virginia 26036.

Mine: Ohio County Mine, MSHA I.D. No. 46-01436, located in Marshall County, West Virginia.

Regulation Affected: 30 CFR 77.1914(a) (Electrical equipment).

• Docket Number: M-2016-036-C.

FR Notice: 81 FR 16066 (March 31, 2017).

Petitioner: Pennyrile Energy, LLC, 7386 State Route 593, Calhoun, Kentucky 42327.

Mine: Riveredge Mine, MSHA I.D. No. 15-19424, located in McLean County, Kentucky.

Regulation Affected: 30 CFR 75.1700 (Oil and gas wells).

• Docket Number: M-2016-010-M.

FR Notice: 82 FR 16071 (March 31, 2017).

Petitioner: Fred Weber, Inc., 2320 Creve Coeur Mill Road, Maryland Heights, Missouri 63043.

Mine: Joliet MI, LLC Mine, MSHA I.D. No. 11-03153, located in Will County, Illinois.

Regulation Affected: 30 CFR 49.6(a)(1) (Equipment and maintenance requirements).

Sheila McConnell,
Director, Office of Standards, Regulations, and Variances.

[FR Doc. 2017-22271 Filed 10-13-17; 8:45 am]

BILLING CODE 4520-43-P